DEPARTMENT OF TRANSPORTATION

Federal Aviation Administration

14 CFR Part 71

[Docket No. FAA-2006-25182; Airspace Docket No. 06-AAL-21]

Revision of Class E Airspace; Iliamna, AK

AGENCY: Federal Aviation Administration (FAA), DOT.

ACTION: Final rule; correction.

SUMMARY: This action corrects an error in the airspace description contained in a Final Rule that was published in the Federal Register on Friday, October 6, 2006 (71 FR 59007). Airspace Docket No. 06-AAL-21.

DATES: Effective Date: 0901 UTC, January 18, 2007. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

Federal Register Document E6-16504, Airspace Docket No. 06-AAL-21, published on Friday, October 6, 2006 (71 FR 59007), revised Class E airspace at Iliamna, AK. An error was discovered in the airspace description associated with the directional reference to the 200° bearing from the Iliamna Non-directional Beacon. This action corrects that error by removing it.

Correction to Final Rule

Accordingly, pursuant to the authority delegated to me, the airspace description of the Class E airspace published in the Federal Register, Friday, October 6, 2006 (71 FR 59007), (FR doc. E6-16504, page 59007, all references to Iliamna) is corrected as follows:

§ 71.1 [Corrected]

* * * * *

AAL AK E5 Iliamna, AK [Revised]

Iliamna Airport, AK

(Lat. 59°45′16″ N., long. 154°54′39″ W.)

Iliamna NDB

(Lat. 59°44′53″ N., long. 154°54′35″ W.)

That airspace extending upward from 700 feet above the surface within a 6.7-mile radius of the Iliamna Airport and that airspace 4 miles west and 8 miles east of the 200° bearing from the Iliamna NDB extending from the 6.7-mile radius to 16 miles; and that airspace extending upward from 1,200 feet above the surface within an area bounded by lat.60°14′00″ N. long. 154°54′00″ W., to lat 59°46′20″ N. long. 153°52′00″ W., to lat. 59°43′00″ N. long 153°00′00″ W., to lat 59°33′00″ N. long. 153°00′00″W., to lat.59°28′00″ N. long. 154°13′00″ W., to lat 59°18′00″ N. long. 154°04′00″ W., to lat. 59°11′00″ N. long. 155°17′00″ W., to lat 59°32′00″ N. long. 155°31′00″ W., to lat. 59°41′00″ N. long. 156°35′00″ W., to the point of beginning.

* * * * *

Issued in Anchorage, AK, on November 16, 2006.
Linda J. Couture,
Acting Director, Alaska Flight Service Information Office.

[FR Doc. 06-9516 Filed 12-1-06; 8:45 am]

BILLING CODE 4910-13-M